DEPARTMENT OF COMMERCE

International Trade Administration

[A-485-803]

Notice of Extension of Time Limit for the Final Results of Antidumping Duty Administrative Review: Certain Cut-To-Length Carbon Steel Plate from Romania

AGENCY: Import Administration, International Trade Administration, Department of Commerce.

EFFECTIVE DATE: January 11, 2005.

FOR FURTHER INFORMATION CONTACT: Brandon Farlander at (202) 482-0182 or Abdelali Elouaradia at (202) 482-1374, AD/CVD Operations, Office 7, Import Administration, International Trade Administration, U.S. Department of Commerce, 14th Street and Constitution Avenue, N.W., Washington, D.C. 20230.

SUPPLEMENTARY INFORMATION: On September 7, 2004, the Department of Commerce (“the Department”) published in the Federal Register the preliminary results of the administrative review of the antidumping duty order on certain cut-to-length carbon steel plate from Romania. See Certain Cut-to-Length Carbon Steel Plate From Romania: Preliminary Results of the Antidumping Duty Administrative Review and Notice of Intent To Rescind in Part, 69 FR 54108 (September 7, 2004). Pursuant to section 751(a)(3)(A) of the Tariff Act of 1930, (“the Act”), the final results are currently due on January 5, 2005.

Extension of Time Limit for Final Results

Pursuant to section 751(a)(3)(A) of the Act, as amended, the Department may extend the deadline for completion of the final results of an administrative review if it determines that it is not practicable to complete the final results within the statutory time limit of 120 days from the date on which the preliminary results were published. The Department has determined that due to the complexity of the issues arising from Romania's graduation to market economy status during the review period, it is not practicable to complete this review within the time limits mandated by section 751(a)(3)(A) of the Act and section 19 CFR 351.213(h)(1) of the Department's regulations. Therefore, the Department is extending the time limit for the completion of these final results by 30 days. Accordingly, the final results of this review will now be due on February 4, 2005.

This notice is published in accordance with section 751(a)(3)(A) of the Act and section 19 CFR 351.213(h)(2) of the Department's regulations.

Dated: January 5, 2005.
Barbara E. Tillman,
Acting Deputy Assistant Secretary for Import Administration.

[FR Doc. 05-520 Filed 1-10-05; 8:45 am]

BILLING CODE 3510-DS-S